MARINE MAMMAL COMMISSION

Sunshine Act Notice

TIME AND DATE: The Marine Mammal Commission and its Committee of Scientific Advisors on Marine Mammals will hold a public meeting on Tuesday, 21 May 2019 from 8:30 a.m. to 5:30 p.m.; Wednesday, 22 May 2019 from 8:30 a.m. to 5:45 p.m.; Thursday, 23 May 2019 from 9:30 a.m. to 1:30 p.m.

The Commission and the Committee also will meet in executive session on Thursday, 23 May 2019, 8:30 to 9:30 a.m.

PLACE: Keauhou Ballroom, Sheraton Kona Resort and Spa at Keahou Bay, 78-128 Ehukai Street, Kailua-Kona, Hawaii.

STATUS: The executive session will be closed to the public in accordance with the provisions of the Government in the Sunshine Act (5 U.S.C. 552b) and applicable regulations. The session will be limited to discussions of internal agency practices, personnel, and the budget of the Commission. All other portions of the meeting will be open to the public. Public participation will be allowed as time permits and as determined to be desirable by the Chairman. The Commission will live-stream the meeting via a GoToMeeting webinar, limited space available. Webinar details will be posted by Monday, 20 May 2019, no registration required.

MATTERS TO BE CONSIDERED: The Commission and Committee will meet in public session to discuss a broad range of marine mammal science and conservation policy issues, with a particular focus on Spinner dolphins, Monk seals, fishery interactions, humpback whales, and the wider Pacific. The agenda for the meeting, along with webinar details, is posted on the Commission's website at https://www.mmc.gov/events-meetings-and-workshops/marine-mammal-commission-annual-meetings/2019-annual-meeting/.

CONTACT PERSON FOR MORE INFORMATION: Brady O'Donnell, Communications Officer, Marine Mammal Commission, 4340 East-West Highway, Room 700, Bethesda, MD 20814; (301) 504-0087; email: bodonnell@mmc.gov.

Dated: April 30, 2019.
Peter O. Thomas,
Executive Director.

[FR Doc. 2019-09274 Filed 5-2-19; 11:15 am]

BILLING CODE 6820-31-P